GENERAL SERVICES ADMINISTRATION

[OMB Control No. 3090-0027; Docket No. 2024-0001; Sequence No. 8]

Submission for OMB Review; General Services Administration Acquisition Regulation; Contract Administration and Quality Assurance (GSA Forms 1678 and 308)

AGENCY: Office of Acquisition Policy, General Services Administration (GSA).

ACTION: Notice and request for comments.

SUMMARY: In accordance with the Paperwork Reduction Act of 1995, and the Office of Management and Budget (OMB) regulations, GSA invites the public to comment on a request to review and approve an extension of a previously approved information collection requirement regarding GSA clauses and Forms that assist with contract administration and quality assurance (i.e., monitoring, delivery, and inspection) of supply orders.

DATES: Submit comments on or before: December 19, 2024.

ADDRESSES: Written comments and recommendations for this information collection should be sent within 30 days of publication of this notice to www.reginfo.gov/public/do/PRAMain. Find this particular information collection by selecting “Currently under Review-Open for Public Comments” or by using the search function.

FOR FURTHER INFORMATION CONTACT: Ms. Vernita Misidor, Procurement Analyst, General Services Acquisition Policy Division, at 202-357-9681 or via email to gsarpolicy@gsa.gov.

SUPPLEMENTARY INFORMATION:

A. Purpose

Under certain contracts the Government must rely on contractor inspection in lieu of Government inspection. Therefore, GSA's Federal Acquisition Service requires documentation from its contractors to effectively monitor contractor performance and ensure that it will be able to take timely action should that performance be deficient.

B. Annual Reporting Burden

GSA Form 1678

Annual Responses: 250,0000.

Responses per Respondent: 1.

Total Annual Responses: 250,0000.

Hours per Response: 0.50.

Total Burden Hours: 125,000.

GSA Form 308

Annual Responses: 2,600.

Responses per Respondent: 1.

Total Annual Responses: 2,600.

Hours per Response: 0.50.

Total Burden Hours: 1,300.

C. Public Comments

A 60-day notice was published in the Federal Register at 89 FR 73418 on September 10, 2024. One comment was received.

Comment: “I have not find any type of business on the ride I am not self-employed all the income than I'd bring claimed against me is not mine I did not earn that or file that.”

Response: This comment is not relevant to the notice. Therefore, there are no changes due to this collection.

Obtaining Copies of Proposals: Requesters may obtain a copy of the information collection documents from the Regulatory Secretariat Division by calling 202-501-4755 or emailing GSARegSec@gsa.gov. Please cite OMB Control No. 3090-0027, Contract Administration, Quality Assurance (GSA Forms 1678 and 308), in all correspondence.

Jeffrey A. Koses,
Senior Procurement Executive, Office of Acquisition Policy, Office of Government-wide Policy.

[FR Doc. 2024-26897 Filed 11-18-24; 8:45 am]

BILLING CODE 6820-61-P